DEPARTMENT OF COMMERCE

National Oceanic and Atmospheric Administration

[I.D. 070802C]

Fisheries of the Exclusive Economic Zone Off Alaska; Prohibited Species Donation Program

AGENCY: National Marine Fisheries Service (NMFS), National Oceanic and Atmospheric Administration (NOAA), Commerce.

ACTION: Notice; authorized distributor permit.

SUMMARY: NMFS announces the renewal of permits to Northwest Food Strategies (NFS) authorizing this organization to distribute Pacific salmon and Pacific halibut to economically disadvantaged individuals under the prohibited species donation (PSD) program. These salmon and halibut are caught incidentally during directed groundfish trawl fishing operations off Alaska. This action is necessary to comply with provisions of the PSD program and is intended to promote the goals and objectives of the North Pacific Fishery Management Council.

DATES: Effective August 16, 2002, through August 16, 2005.

ADDRESSES: Copies of the PSD permits for salmon and halibut may be obtained from the Sustainable Fisheries Division, NMFS, Alaska Region, P.O. Box 21668, Juneau, AK 99802-21668, Attn: Lori Gravel-Durall.

FOR FURTHER INFORMATION CONTACT: Melanie N. Brown, 907-586-7228 or email at melanie.brown@noaa.gov.

SUPPLEMENTARY INFORMATION:

Background

Fishing for groundfish by U.S. vessels in the exclusive economic zone of the Bering Sea and Aleutian Islands management area (BSAI) and Gulf of Alaska (GOA) is managed by NMFS according to the Fishery Management Plan for the Groundfish Fishery of the Bering Sea and Aleutian Islands Area and the Fishery Management Plan for Groundfish of the Gulf of Alaska (FMPs). These FMPs were prepared by the North Pacific Fishery Management Council under the Magnuson-Stevens Fishery Conservation and Management Act (Magnuson-Stevens Act) (16 U.S.C. 1801, et seq.). Regulations governing the Alaska groundfish fisheries appear at 50 CFR parts 600 and 679. Fishing for Pacific halibut in waters in and off Alaska is governed by the Convention between the United States and Canada for the Preservation of the Halibut Fishery of the North Pacific Ocean and Bering Sea and by regulations adopted by the International Pacific Halibut Commission (IPHC) and approved by the Secretary of State of the United States under section 4 of the Northern Pacific Halibut Act (16 U.S.C. 773-773k). Regulations of the IPHC are published as annual management measures in the Federal Register each year pursuant to regulations at 50 CFR 300.62.

NMFS approved Amendments 26/29 to the BSAI and the GOA FMPs, respectively, on July 10, 1996, and implemented a salmon donation program. NMFS approved the superseding Amendments 50/50 to the FMPs on May 6, 1998, and authorized the PSD program for salmon and Pacific halibut. A final rule implementing Amendments 50/50 was published in the Federal Register on June 12, 1998 (63 FR 32144). A full description of, and background information on, the PSD program may be found in the preamble to the proposed rules for Amendments 26/29, and 50/50 (61 FR 24750, May 16, 1996, and 63 FR 10583, March 4, 1998, respectively).

Regulations at § 679.26 authorize the voluntary distribution of Pacific salmon and Pacific halibut taken incidentally in the groundfish trawl fisheries off Alaska to economically disadvantaged individuals by tax-exempt organizations through an authorized distributor. The Regional Administrator, Alaska Region, NMFS (Regional Administrator), may select one or more tax-exempt organizations to be authorized distributors, as defined by § 679.2, based on the information submitted by applicants under § 679.26. After review of qualified applicants, NMFS must announce the selection of authorized distributor(s) in the Federal Register and issue the selected distributor(s) PSD permits.

On June 3, 2002, the Regional Administrator received an application from NFS to renew an existing PSD permit issued to NFS on August 16, 1999 (64 FR 44502, August 16, 1999), that authorizes the voluntary distribution of Pacific salmon taken incidentally in groundfish trawl fisheries off Alaska through August 16, 2002.

On July 1, 2002, the Regional Administrator also received an application from NFS to renew an existing PSD permit issued to NFS on January 1, 2001 (66 FR 13294, March 5, 2001), that authorizes the voluntary distribution of Pacific halibut taken incidentally in groundfish trawl fisheries off Alaska and delivered to shoreside processors through December 31, 2003. Even though the halibut permit expires in 2003, the applicant requested that the halibut permit be renewed at this time. Concurrent issuance of the Pacific salmon and Pacific halibut permits would reduce permit application costs and enhance administrative efficiency because both permits would be effective for the same 3-year time period.

The Regional Administrator reviewed the applications and determined that they provide the required information and that NFS meets the requirements for an authorized distributor of Pacific salmon and Pacific halibut. As required by

§ 679.26(b)(2), the Regional Administrator based his selection on the following criteria:

1. The number and qualifications of applicants for PSD permits. As of the date of this notice, only NFS has submitted completed applications to distribute salmon and halibut taken incidentally in the Alaska groundfish trawl fisheries. NFS has been coordinating the distribution of salmon taken incidentally in trawl fisheries since 1993 and of halibut taken incidentally since 1998 under exempted fishing permits and the PSD program. NFS employs independent seafood quality control experts to ensure product quality and has received support from cold storage facilities and common carriers servicing the areas where salmon and halibut donations will take place.

2. The number of harvesters and the quantity of fish that applicants can effectively administer. For salmon, the number of processors and vessels currently participating in the PSD program administered by NSF include: 3 shoreside processors, 12 catcher/processor vessels, and 37 catcher vessels. Three shoreside processors participate in the halibut donation program. According to its application, NFS has the capacity to receive and distribute salmon and halibut from as many as 40 processors and their associated catcher vessels. In 1999, 2000, and 2001, NFS received 41,265 pounds, 90,560 pounds, and 42,166 pounds, respectively, of salmon for distribution to food bank organizations. During these same years, NFS received 4,476 pounds, 14,120 pounds, and 43,062 pounds, respectively, of halibut for distribution to food bank organizations. NMFS does not have information to convert accurately the salmon weights to numbers of salmon. Nonetheless, assuming a recovery rate of 30 percent and an average recovered weight of 8 pounds per fish, the above poundages could represent between 5,158 and 11,320 salmon.

3. The anticipated level of salmon and halibut incidental catch based on salmon and halibut incidental catch from previous years. During 2000 and 2001, about 65,070 and 95,073 salmon, respectively, were caught incidentally in the BSAI groundfish trawl fisheries. Another 37,700 and 21,167 salmon, respectively, were taken in the GOA trawl fisheries. During 2000 and 2001, 3,208 and 3,245 metric tons (mt) of halibut mortality, respectively, occurred in the BSAI groundfish trawl fisheries. During 2000 and 2001 in the GOA, 1,888 and 2,197 mt of halibut mortality, respectively, occurred in the groundfish trawl fisheries.

Pacific halibut bycatch amounts are constrained by an annual prohibited species catch limit in the BSAI and GOA. Future halibut bycatch levels will likely be similar to those experienced in 2000 and 2001. Salmon prohibited species bycatch limits are established for the BSAI pollock fisheries that, when attained, result in the closure of specified fishing grounds for a specified period of time. Salmon bycatch limits are not established for the GOA. In general, salmon bycatch amounts tend to be more variable between years, making accurate prediction of future incidental take amounts difficult.

4. The potential number of vessels and processors participating in the groundfish trawl fisheries. In 2001 about 11 shoreside processors in the BSAI and 18 shoreside processors in the GOA processed catch from trawl vessels. In 2001, approximately 181 trawl catcher vessels, 39 trawl catcher/processors, and 11 motherships and floating processors participated in the Alaska groundfish fisheries.

The PSD permits are issued to NFS for a 3-year period unless suspended or revoked. They may not be transferred, but they may be renewed following the application procedures in § 679.26.

If the authorized distributor modifies any information on the PSD permit application submitted under § 679.26(b)(1)(xi) or (b)(1)(xiii), the authorized distributor must submit a modified list of participants or a modified list of delivery locations to the Regional Administrator.

These permits may be suspended, modified, or revoked under 15 CFR part 904 for noncompliance with terms and conditions specified in the permit or for a violation of this section or of other regulations in 50 CFR part 679.

Classification

This action is taken under 50 CFR § 679.26.

Authority: 16 U.S.C. 773 et seq., 1801 et seq., and 3631 et seq.

Dated: July 12, 2002.
Virginia M. Fay,
Acting Director, Office of Sustainable Fisheries, National Marine Fisheries Service.

[FR Doc. 02-18164 Filed 7-17-02; 8:45 am]

BILLING CODE 3510-22-S